NUCLEAR REGULATORY COMMISSION

[Docket No. 030-33765; License No. 24-26628-01; EA-03-177]

KTL Roudebush Testing, Kansas City, MO; Order Suspending License (Effective Immediately) and Demand for Information

KTL Roudebush Testing (Licensee) is the holder of Byproduct Material License No. 24-26628-01 issued by the Nuclear Regulatory Commission (NRC or Commission) pursuant to 10 CFR parts 30 and 34. The license authorizes the possession and use of iridium-192 in sealed sources for industrial radiography, and cesium-137 and americium-241 in sealed sources for measuring physical properties of materials, at temporary job sites of the Licensee anywhere in the United States where the NRC maintains jurisdiction for regulating the use of licensed material. The license identifies Christopher V. Roudebush as the Radiation Safety Officer (RSO). Mr. Roudebush is the President and owner of KTL Roudebush Testing, and he serves as a Licensee radiographer. The license, originally issued on November 20, 1995, was last amended on January 16, 2004, and is due to expire on March 31, 2011.

On April 8, 2003, two NRC inspectors attempted to inspect the Licensee's activities and inquired about radiography at temporary job sites. The Licensee's RSO indicated that the Licensee might be performing radiography work at the Kansas City Power & Light Iatan Generating Station located in Weston, Missouri on either Thursday or Friday (April 10 or 11, 2003). On the morning of April 10, 2003, the inspectors again called the Licensee inquiring about radiography at temporary job sites. A Licensee employee, a radiographer's assistant, answered and stated that the Licensee's staff had just finished radiography at a temporary job site in Weston, Missouri, and was preparing to return to the main office. Following the telephone conversation, the inspectors drove to the Licensee's office at 1606 Cherry Street, Kansas City, Missouri and waited for the work crew to return. When a Licensee radiographer returned to the office, the inspectors evaluated the Licensee's transport of the radiographic exposure devices within the vehicle and discovered that one of the devices was not properly secured in the vehicle and shipping papers were not present.

When the RSO returned to the office, the inspectors conducted an inspection of the Licensee's records that are required by 10 CFR Part 34. During the inspection, the RSO presented the inspectors with four records of the quarterly maintenance/inspection of radiographic exposure devices. Two records were dated March 30, 2002, and two records were dated March 28, 2003. The records were blank, other than the device identifiers and the dated signature of the RSO. When questioned about the blank records, the RSO stated that the 2002 maintenance/inspections were completed after the dated signature and the resulting records were entered into his office desktop computer. The RSO also stated that the records for the maintenance/inspection of exposure devices for the second through fourth quarters of 2002 were not available. The RSO claimed that a Licensee employee had entered the information into the computer and he was unable to retrieve these records. The RSO also claimed that the employee may have removed these records when he left the company under unfavorable conditions. On April 14, 2003, one of the inspectors interviewed the former employee by telephone. The former employee denied entering any records of radiographic operations into a computer system maintained by the Licensee and recalled the completed records were normally handwritten. The inspection resulted in nine unresolved items.

On April 21, 2003, the NRC Office of Investigation was asked to look into concerns regarding potential willful/deliberate violations of NRC requirements by the RSO. These concerns included: (1) Deliberately falsifying exposure device records; (2) deliberately providing incomplete and inaccurate information regarding the performance of quarterly inspections; (3) deliberately failing to perform quarterly inspections; (4) deliberately failing to properly secure an exposure device during transportation; and (5) deliberately violating the two-man rule requirement at a temporary job site in Joplin, Missouri.

On September 16, 2003, the NRC was contacted by a former Licensee radiographer's assistant, who informed the NRC that the RSO had asked him after the April 2003 NRC inspection to falsify the missing records and to manipulate the computer data so it would not appear as if the records were backdated. After the former Licensee employee told the RSO that he would not be able to manipulate the computer data, the former employee stated that the RSO hid the computer in the attic and subsequently destroyed the computer after he was issued a subpoena for the computer contents. The former Licensee employee also stated that the RSO was hiring personnel with no previous radiography experience from a temporary agency and the temporary personnel were not provided with the required training or radiation dosimetry. On September 18, 2003, these concerns were provided to the NRC Office of Investigations for inclusion in its ongoing investigation.

On October 23, 2003, an NRC inspection was conducted at a temporary job site in Livingston County, Missouri. Based on the results of this inspection, three violations of NRC requirements were identified involving: (1) A failure to have shipping papers readily accessible in the vehicle cab when the driver is not at the vehicle's controls; (2) a failure to provide the emergency response telephone number on the shipping papers; and (3) a failure to amend the license to reflect a name change from PSI Inspection, Inc. to KTL Roudebush Testing.

On February 18, 2004, the NRC Office of Investigation (OI) issued its report (Case No. 3-2003-009) and substantiated nine deliberate violations of NRC requirements. Based on the results of the April 2003 inspection and the OI investigation, the following deliberate violations of regulatory requirements have been identified:

1. On April 10, 2003, October 28 and 29, 2002, and on several occasions between October 2001 and January 2002, the Licensee's RSO, who is also the President and Owner of KTL Roudebush Testing, deliberately conducted radiography at locations other than a permanent radiographic installation (temporary job sites), and the RSO/radiographer was not accompanied by an additional qualified individual who could observe the operations and was capable of providing immediate assistance to prevent unauthorized entry, as required by 10 CFR 34.41.

2. On April 10, 2003, and on October 28 and 29, 2002, the Licensee's RSO deliberately permitted individuals to act as a radiographer's assistant before these individuals had successfully completed the Licensee's training program for radiographer's assistants, as required by 10 CFR 34.43(c) and License Condition 26.

3. On October 28, 2002, the Licensee's RSO deliberately permitted an individual who was not wearing a direct-reading pocket dosimeter, an alarming ratemeter, and either a film badge or a thermoluminescent dosimeter, as required by 10 CFR 34.47(a), to act as a radiographer's assistant.

4. As of April 12, 2003, the Licensee's RSO deliberately failed to conduct inspections and routine maintenance of Licensee radiographic exposure devices and associated equipment during the first quarter of 2003, an interval exceeding three months, as required by 10 CFR 34.31(b).

5. On April 8, 2003, the Licensee's RSO deliberately provided inaccurate and incomplete information to an NRC inspector regarding the maintenance of records of quarterly inspections of radiographic exposure devices, required to be maintained in accordance with 10 CFR 34.73. The RSO stated that the required inspections had been conducted in calendar year 2002 and that electronic records of the subject inspections were prepared by another named individual. Transcribed sworn statements by one or more individuals indicated that the Licensee never prepared the subject records, electronic or handwritten, in calendar year 2002.

6. On August 5, 2003, the Licensee's RSO deliberately provided inaccurate and incomplete information to an NRC Office of Investigations Special Agent and deliberately did not afford the Commission an opportunity to inspect records of quarterly maintenance and inspections of radiographic exposure devices, required to be maintained in accordance with 10 CFR 34.73. The Licensee's RSO deliberately failed to provide information requested in a subpoena for the hard disk drive data, including any magnetic or optical media, floppy disks, zip disks, and compact disks, pertaining to the Licensee's quarterly maintenance and inspection logs for the year 2002. The Licensee's RSO stated that he had thrown the computer in the trash because it was not working. However, a licensee employee notified the NRC that the computer was in the attic in August and was destroyed by the owner, after the subpoena had been served.

7. On April 10, 2003, and between October 2001 and January 2002, the Licensee's RSO transported on public highways a SPEC Model 150 radiographic exposure device (package), containing a nominal 142 curie iridium-192 sealed source, and the Licensee deliberately did not block and brace the package such that it could not change position during conditions normally incident to transportation, as required by 10 CFR 71.5(a) and 49 CFR 177.842(d). Specifically, two radiographic exposure devices were transported in the back of a company truck and one of the exposure devices was not properly blocked or braced.

8. On April 10, 2003, the Licensee's RSO deliberately transported a SPEC Model 150 radiographic exposure device, containing a nominal 142 curie iridium-192 sealed source, by highway without a shipping paper and the material was not excepted from shipping paper requirements, as required by 10 CFR 71.5(a) and 49 CFR 177.817(a).

9. On April 10, 2003, the Licensee's RSO deliberately transported a radiographic exposure device, containing a nominal 142 curie iridium-192 sealed source, without its safety cover installed to protect the source assembly from water, mud, sand or other foreign matter, as required by 10 CFR 34.20(c)(3).

The NRC must be able to rely on the Licensee and its employees to comply with all NRC requirements and to ensure that radiography is not conducted unless all required qualified individuals are present, have completed all required training, and are wearing all required dosimetry (i.e., a direct-reading pocket dosimeter, alarming ratemeter, and a film badge or a thermoluminescent dosimeter). The failure to ensure that qualified individuals with appropriate dosimetry are present during radiography is a significant safety issue. The purpose of the second qualified individual is to observe radiographic operations, to provide immediate assistance to prevent unauthorized entry into areas where radiography is being conducted, and to assist the radiographer in case of an event involving the radiography source. The purpose of dosimetry, in particular the alarming ratemeter, is to provide information to the individuals involved in radiographic operations that there is a substantial radiation dose rate present, thereby allowing individuals to take appropriate precautions to reduce their exposures and those of the public.

In addition, the NRC must be able to rely on its licensees to maintain accurate records and to provide information to the NRC that is complete and accurate in all material respects. Based on the violations described in Section II above, the Licensee has deliberately failed to comply with NRC requirements, and has deliberately provided inaccurate and incomplete information to the NRC. These actions by the Licensee have raised serious doubt as to whether the Licensee can be relied upon in the future to comply with NRC requirements.

Consequently, I lack the requisite reasonable assurance that the Licensee's current operations under License No. 24-26628-01 can be conducted in compliance with the Commission's requirements and that the health and safety of the public, including the Licensee's employees, will be protected. Therefore, the public health, safety, and interest require that License No. 24-26628-01 be suspended. Furthermore, pursuant to 10 CFR 2.202, the significance of the violations described in Section II above is such that the public health, safety, and interest require that this Order be immediately effective.

In addition to these deliberate violations which occurred within NRC's jurisdiction, and upon which this Order is based, the investigation conducted by the NRC Office of Investigations determined that the following activities occurred in the State of Kansas, an NRC Agreement State. On February 17 and March 6, 2003, and on several occasions between May and October 2002, the Licensee deliberately conducted radiography at temporary job sites and the radiographer was not accompanied by an additional qualified individual. On February 17 and March 6, 2003, the Licensee deliberately permitted individuals to act as a radiographer's assistants before they had successfully completed the Licensee's training program for radiographer's assistants, and these individuals did not wear a direct-reading pocket dosimeter, an alarming ratemeter, and either a film badge or a thermoluminescent dosimeter while conducting radiography.

Accordingly, pursuant to Sections 81, 161b, 161i, 161o, 182 and 186 of the Atomic Energy Act of 1954, as amended, and the Commission's regulations in 10 CFR 2.202 and 10 CFR Parts 30 and 34, it is hereby ordered, effective immediately, that License No. 24-26628-01 is suspended pending further order:

A. All activities authorized by License No. 24-26628-01 involving the use of licensed material are hereby suspended pending further action by the NRC. All other requirements of the license remain in effect.

B. All activities authorized by 10 CFR 150.20 involving the use of licensed material in Non-Agreement States and areas of exclusive federal jurisdiction are hereby suspended.

C. All NRC-licensed material in the Licensee's possession shall immediately be placed in secured storage at the Licensee's facility located at 1606 Cherry Street, Kansas City, Missouri.

D. Within 24 hours following issuance of this Order, the Licensee shall notify Mr. Marc Dapas, Director, Division of Nuclear Materials Safety, NRC Region III, or his designee, at telephone number (630) 829-9801 and advise him of the current location, physical status, and storage arrangements of licensed materials. A written response documenting this information shall be submitted, under oath or affirmation, to the Regional Administrator, NRC Region III, 801 Warrenville Road, Suite 255, Lisle, IL 60532-3451 within seven days of receipt of this Order.

E. No material authorized by the license shall be ordered, purchased, received, or transferred by the Licensee while this Order is in effect.

F. All records related to licensed activities and materials shall be maintained in their original form and must not be removed, destroyed, or altered in any way.

The Director of the Office of Enforcement, the Director of the Office of Nuclear Materials Safety and Safeguards, or the Regional Administrator, Region III, may, in writing, relax or rescind this Order upon demonstration by the Licensee of good cause.

In accordance with 10 CFR 2.202, the Licensee must, and any other person adversely affected by this Order may, submit an answer to this Order, and may request a hearing on this Order, within 20 days of the date of this Order. Where good cause is shown, consideration will be given to extending the time to request a hearing. A request for extension of time must be made in writing to the Director, Office of Enforcement, U.S. Nuclear Regulatory Commission, Washington, DC 20555, and include a statement of good cause for the extension. The answer may consent to this Order. Unless the answer consents to this Order, the answer shall, in writing and under oath or affirmation, specifically admit or deny each allegation or charge made in this order and set forth the matters of fact and law on which the Licensee or other person adversely affected relies, and the reasons as to why the Order should not have been issued. Any answer or request for a hearing shall be submitted to the Secretary, U.S. Nuclear Regulatory Commission, ATTN: Rulemakings and Adjudications Staff, Washington, DC 20555. Copies of the hearing request also should be sent to the Director, Office of Enforcement, U.S. Nuclear Regulatory Commission, Washington, DC 20555-0001, to the Assistant General Counsel for Materials Litigation and Enforcement at the same address, to the Regional Administrator, NRC Region III, 801 Warrenville Road, Suite 255, Lisle, IL 60532-4351, and to the Licensee if the hearing request is by a person other than the Licensee. Because of continuing disruptions in delivery of mail to United States Government offices, it is requested that answers and requests for hearing be transmitted to the Secretary of the Commission either by means of facsimile transmission to 301-415-1101 or by e-mail to hearingdocket@nrc.gov and also to the Office of the General Counsel either by means of facsimile transmission to 301-415-3725 or by e-mail to OGCMailCenter@nrc.gov. If a person other than the licensee requests a hearing, that person shall set forth with particularity the manner in which his interest is adversely affected by this Order and shall address the criteria set forth in 10 CFR § 2.309.

If a hearing is requested by the Licensee or a person whose interest is adversely affected, the Commission will issue an Order designating the time and place of any hearing. If a hearing is held, the issue to be considered at such hearing shall be whether this Order should be sustained.

Pursuant to 10 CFR 2.202(c)(2)(i), the Licensee, or any other person adversely affected by this Order, may, in addition to demanding a hearing at the time the answer is filed or sooner, move the presiding officer to set aside the immediate effectiveness of the Order on the ground that the Order, including the need for immediate effectiveness, is not based on adequate evidence but on mere suspicion, unfounded allegations, or error.

In the absence of any request for hearing, or written approval of an extension of time in which to request a hearing, the provisions specified in Section IV above shall be final 20 days from the date of this Order without further order or proceedings. If an extension of time for requesting a hearing has been approved, the provisions specified in Section IV shall be final when the extension expires if a hearing request has not been received. An answer or a request for hearing shall not stay the immediate effectiveness of this order.

In addition to issuance of this Order suspending License No. 24-26628-01, the NRC requires further information from the Licensee in order to determine whether the NRC can have reasonable assurance that in the future the Licensee will conduct its activities in accordance with the NRC's requirements.

Accordingly, pursuant to sections 161c, 161o, 182 and 186 of the Atomic Energy Act of 1954, as amended, and the NRC's regulations in 10 CFR 2.204 and 10 CFR parts 30 and 34, in order for the NRC to determine whether the license should be further modified or revoked, or other enforcement action taken, the Licensee is required to submit to the Director, Office of Enforcement, U.S. Nuclear Regulatory Commission, Washington, DC 20555-0001, within 20 days of the date of this Order and Demand for Information, in writing and under oath or affirmation:

1. An explanation as to why, in light of the findings set forth in Section II of this Order and Demand for Information, that License No. 24-26628-01 should not be revoked.

2. If the Licensee believes that the license should not be revoked, the Licensee, in its response, should address, at a minimum, why the NRC should have reasonable assurance that the Licensee, in the future, will ensure appropriate management oversight of licensed activities such that licensed activities will be conducted in accordance with regulatory requirements (this shall include a description of who will be responsible for assuring such activities are conducted in accordance with 10 CFR parts 30 and 34 requirements).

Copies also shall be sent to the Assistant General Counsel for Materials Litigation and Enforcement at the same address, and to the Regional Administrator, NRC Region III, 801 Warrenville Road, Suite 255, Lisle, IL 60532-4351.

After reviewing your response, the NRC will determine whether further action is necessary to ensure compliance with regulatory requirements.

Dated this 11th day of March 2004.
For the Nuclear Regulatory Commission.
Carl J. Paperiello,
Deputy Executive Director for Materials, Research and State Programs.

[FR Doc. 04-6275 Filed 3-19-04; 8:45 am]

BILLING CODE 7590-01-P